DEPARTMENT OF HOUSING AND URBAN DEVELOPMENT

[Docket No. FR-5131-N-01]

Notice of Realignment of HUD's Freedom of Information Act (FOIA) Processing Functions

AGENCY: Office of the Secretary, HUD.

ACTION: Notice.

SUMMARY: This notice advises the public that HUD has realigned its Freedom of Information Act (FOIA) processing functions from the Office of General Counsel to the Office of the Executive Secretariat in the Office of Administration. The realignment of FOIA processing functions will improve the efficiency and consistency of HUD's FOIA operations.

FOR FURTHER INFORMATION CONTACT: Vicky Lewis, Assistant Executive Secretary, Freedom of Information Act (FOIA) Office, Office of the Executive Secretariat, Office of Administration, Department of Housing and Urban Development, 451 Seventh Street, SW., Room 10139, Washington, DC 20410-0001; telephone (202) 708-3866 (this is not a toll-free number). Persons with hearing or speech impairments may access this number via TTY by calling the toll-free Federal Information Relay Service at (800) 877-8339.

SUPPLEMENTARY INFORMATION: The Freedom of Information Act (5 U.S.C. 552) provides the means by which the public can obtain information regarding federal agencies. Under FOIA, the public can request records from any agency, which the agency must provide, subject to certain statutory exemptions and exclusions. HUD's regulations at 24 CFR part 15, entitled “Public Access to HUD Records under the Freedom of Information Act and Testimony and Production of Information by HUD Employees,” describe the policies and procedures governing public access to HUD records under FOIA.

On December 14, 2005, President Bush issued Executive Order 13392, entitled “Improving Agency Disclosure of Information,” which acknowledged the importance of participation by an informed citizenry in the effective functioning of our constitutional democracy. Executive Order 13392 was published in the Federal Register on December 19, 2005 (70 FR 75373). It required federal agencies to develop agency-wide plans to ensure the efficient and timely administration of FOIA requests. Such plans were to include specific activities that the agency would implement to eliminate or reduce the agency's FOIA backlog, and activities that would increase public awareness of the agency's FOIA processing. HUD submitted its plan to the Office of Management and Budget (OMB) and the Attorney General on June 14, 2006. (See http://www.hud.gov/offices/ogc/foia/hudfoiaplanfinal.pdf.) An integral part of HUD's plan is the realignment of FOIA processing functions from the Office of General Counsel to the Office of the Executive Secretariat in the Office of Administration. The realignment of FOIA processing functions will improve the efficiency and consistency of HUD's FOIA operations.

This notice announces to the public that HUD has realigned its FOIA processing functions from the Office of General Counsel to the Office of the Executive Secretariat in the Office of Administration. FOIA requests that were formerly submitted to the Office of General Counsel should now be submitted to the FOIA Office in the Office of the Executive Secretariat in the Office of Administration. Members of the public requesting records from HUD may continue to use the FOIA electronic request form on HUD's Internet site at http://www.hud.gov/offices/ogc/foia/foia.cfm. HUD is also undertaking rulemaking to update its FOIA regulations in 24 CFR part 15 to reflect the realignment of the Department's FOIA processing functions. This notice advises the public of the realignment, pending issuance of HUD's updated regulations.

Dated: February 5, 2007.
Keith A. Nelson,
Assistant Secretary for Administration.

[FR Doc. E7-2571 Filed 2-13-07; 8:45 am]

BILLING CODE 4210-67-P